JUDICIAL CONFERENCE OF THE UNITED STATES

Advisory Committee on Appellate Rules; Meeting of the Judicial Conference

AGENCY: Judicial Conference of the United States.

ACTION: Advisory Committee on Appellate Rules, Revised notice of open meeting.

SUMMARY: The Advisory Committee on Appellate Rules will hold a virtual meeting on April 7, 2021. The meeting is open to the public. When a meeting is held virtually, members of the public may join by telephone or video conference to observe but not participate. An agenda and supporting materials will be posted at least 7 days in advance of the meeting at: http://www.uscourts.gov/rules-policies/records-and-archives-rules-committees/agenda-books. The announcement for this meeting was previously published in 86 FR 3196.

DATES: April 7, 2021, 10 a.m.-5 p.m. (Eastern).

FOR FURTHER INFORMATION CONTACT: Rebecca A. Womeldorf, Secretary, Committee on Rules of Practice and Procedure of the Judicial Conference of the United States, Thurgood Marshall Federal Judiciary Building, One Columbus Circle NE, Suite 7-300, Washington, DC 20544, Phone (202) 502-1820, RulesCommittee_Secretary@ao.uscourts.gov.

Authority: 28 U.S.C. 2073.

Dated: January 14, 2021.
Rebecca A. Womeldorf,
Rules Committee Secretary, Rules Committee Staff.

[FR Doc. 2021-01382 Filed 1-21-21; 8:45 am]

BILLING CODE 2210-55-P